DEPARTMENT OF AGRICULTURE

Rural Housing Service

Notice of Funds Availability for Section 514 Farm Labor Housing Loans and Section 516 Farm Labor Housing Grants for Off-Farm Housing for Fiscal Year (FY) 2010

AGENCY: Rural Housing Service, USDA.

ACTION: Notice; correction.

SUMMARY: This notice announces the timeframe to submit pre-applications for section 514 Farm Labor Housing (FLH) loans and section 516 FLH grants for the construction of new off-farm FLH units and related facilities for domestic farm laborers. The intended purpose of these loans and grants is to increase the number of available housing units for domestic farm laborers. This notice describes the method used to distribute funds, the application process, and submission requirements.

FOR FURTHER INFORMATION CONTACT: Henry Searcy, Finance and Loan Analyst, Multi-Family Housing Preservation and Direct Loan Division, STOP 0781 (Room 1263-S), USDA Rural Development, 1400 Independence Ave., SW., Washington, DC 20250-0781, telephone: (202) 720-1753 (This is not a toll free number), or via e-mail: Henry.Searcy@wdc.usda.gov. If you have questions regarding Net Zero Energy Consumption and Energy Generation please contact Meghan Walsh, National Office Architect, Program Support Staff at (202) 205-9590 or via e-mail: Meghan.walsh@wdc.usda.gov.

Amendment

In the Federal Register of Monday, May 10, 2010, Vol. 75, No. 89, on page 25834 in the second column, should read: “Individual requests may not exceed $3 million (total loan and grant).”

Dated: June 11, 2010.
Tammye Treviño,
Administrator, Housing and Community Facilities Programs.

[FR Doc. 2010-14579 Filed 6-16-10; 8:45 am]

BILLING CODE 3410-XV-P